DEPARTMENT OF THE INTERIOR

Minerals Management Service

Notice on Outer Continental Shelf Oil and Gas Lease Sales

AGENCY: Minerals Management Service, Interior.

ACTION: Correction—List of Restricted Joint Bidders.

SUMMARY: On April 22, 2008, pursuant to the authority vested in the Director of the Minerals Management Service by the joint bidding provisions of 30 CFR 256.41, as a matter of information to the public, the MMS published in the Federal Register the current List of Restricted Bidders. Under this authority, MMS determined that each entity within one of the following groups is restricted from bidding with any entity in any other of the following groups at Outer Continental Shelf oil and gas lease sales to be held during the bidding period May 1, 2008 through October 31, 2008. We inadvertently omitted a new group, “Group IX.,” that shall be restricted from bidding with any entity in any other group of restricted bidders during this bidding period. The corrected List of Restricted Joint Bidders is provided below and is effective as of the date of the previous Federal Register publication, April 22, 2008.

Group I.

Exxon Mobil Corporation

ExxonMobil Exploration Company

Group II.

Shell Oil Company

Shell Offshore, Inc.

SWEPI LP

Shell Frontier Oil & Gas, Inc.

Shell Consolidated Energy Resources, Inc.

Shell Land & Energy Company

Shell Onshore Ventures, Inc.

Shell Offshore Properties and Capital II, Inc.

Shell Rocky Mountain Production, LLC

Shell Gulf of Mexico, Inc.

Group III.

BP America Production Company

BP Exploration & Production, Inc.

BP Exploration (Alaska), Inc.

Group IV.

TOTAL E&P USA, Inc.

Group V.

Chevron Corporation

Chevron U.S.A., Inc.

Chevron Midcontinent, L.P.

Unocal Corporation

Union Oil Company of California

Pure Partners, L.P.

Group VI.

ConocoPhillips Company

ConocoPhillips Alaska, Inc.

ConocoPhillips Petroleum Company

Phillips Pt. Arguello Production Company

Burlington Resources Oil & Gas Company, LP

Burlington Resources Offshore, Inc.

The Louisiana Land and Exploration Company

Inexeco Oil Company

Group VII.

Eni Petroleum Co., Inc.

Eni Petroleum US, LLC

Eni Oil US, LLC

Eni Marketing, Inc.

Eni BB Petroleum, Inc.

Eni U.S. Operating Co., Inc.

Eni BB Pipeline, LLC

Group VIII.

Petrobras America, Inc.

Group IX.

StatoilHydro ASA

Statoil Gulf of Mexico, LLC

StatoilHydro USA E&P, Inc.

StatoilHydro Gulf Properties, Inc.

Dated: June 9, 2008.
Randall B. Luthi,
Director, Minerals Management Service.

[FR Doc. E8-14654 Filed 6-26-08; 8:45 am]

BILLING CODE 4310-MR-P